DEPARTMENT OF DEFENSE

Defense Acquisition Regulations System

48 CFR Parts 201, 206, 208, 215, 216, 222, 225, 237, and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective October 30, 2015.

FOR FURTHER INFORMATION CONTACT: Ms. Jennifer L. Hawes, Defense Acquisition Regulations System, OUSD(AT&L)DPAP(DARS), Room 3B941, 3060 Defense Pentagon, Washington, DC 20301-3060. Telephone 571-372-6115; facsimile 571-372-6094.

SUPPLEMENTARY INFORMATION: This final rule amends the DFARS as follows—

1. Directs contracting officers to additional DFARS Procedures, Guidance, and Information (PGI) by adding a cross reference at DFARS 201.106 to the PGI list of information collection and recordkeeping requirements that have been approved by the Office of Management and Budget for DFARS requirements;

2. Directs contracting officers to DFARS PGI coverage by adding a reference at DFARS 206.305 to provide further guidance concerning justification and approval documents;

3. Updates cross references at DFARS 208.404(a)(ii), 216.505(1), and 237.170-2(b) by removing “217.78” and adding “217.7” in each place to conform to changes made in the Federal Register final rule 80 FR 51750 published on August 26, 2015;

4. Removes references at DFARS 215.404-76 and DFARS 222.101-3-70 to obsolete internal DoD reporting requirements;

5. Conforms the DFARS subpart 222.13 heading to the Federal Acquisition Regulation (FAR) heading;

6. Updates, at DFARS 222.1310(a)(1), the title of FAR clause 52.222-35 to conform to the FAR title;

7. Updates hyperlinks at DFARS 225.301-4(2) and 252.225-7040; and

8. Corrects a typographical error at DFARS 225.7002-3.

List of Subjects in 48 CFR 201, 206, 208, 215, 216, 222, 225, 237, and 252

Government procurement.

Jennifer L. Hawes,
Editor, Defense Acquisition Regulations System.

Therefore, 48 CFR parts 201, 206, 208, 215, 216, 222, 225, 237, and 252 are amended as follows:

1. The authority citation for 48 CFR parts 201, 206, 208, 215, 216, 222, 225, 237, and 252 continues to read as follows:

Authority: 41 U.S.C. 1303 and 48 CFR chapter 1.

PART 201—FEDERAL ACQUISITION REGULATIONS SYSTEM

2. Add section 201.106 to read as follows:

201.106 OMB approval under the Paperwork Reduction Act.

See PGI 201.106 for a list of the information collection and recordkeeping requirements contained in this regulation that have been approved by the Office of Management and Budget.

PART 206—COMPETITION REQUIREMENTS

3. Add section 206.305 to read as follows:

206.305 Availability of the justification.

See PGI 206.305 for further guidance on the requirements for preparing, obtaining approval, and posting justification and approval documents for contracts awarded using the authority of FAR 6.302-2.

PART 208—REQUIRED SOURCES OF SUPPLIES AND SERVICES

208.404 [Amended]

4. In section 208.404, amend paragraph (a)(ii) by removing “217.78” and adding “217.7” in its place.

PART 215—CONTRACTING BY NEGOTIATION

215.404-76 [Removed]

5. Remove section 215.404-76.

PART 216—TYPES OF CONTRACTS

216.505 [Amended]

6. In section 216.505, amend paragraph (1) by removing “Subpart 217.78” and adding “subpart 217.7” in its place.

PART 222—APPLICATION OF LABOR LAWS TO GOVERNMENT ACQUISITIONS

222.101-3-70 [Amended]

7. In section 222.101-3-70, amend paragraph (b) by removing the last sentence in the paragraph.

8. Revise the subpart 222.13 heading to read as follows:

Subpart 222.13—Equal Opportunity for Veterans

222.1310 [Amended]

9. In section 222.1310, amend paragraph (a)(1), by removing “FAR 52.222-35, Equal Opportunity for Special Disabled Veterans, Veterans of the Vietnam Era, and Other Eligible Veterans” and adding “FAR 52.222-35, Equal Opportunity for Veterans” in its place.

PART 225—FOREIGN ACQUISITION

225.301-4 [Amended]

10. In section 225.301-4, amend paragraph (2), by—

a. Removing “http://www.dod.mil/bta/products/spot.html” and adding “https://spot.dmdc.mil” in its place; and

b. Removing “http://www.acq.osd.mil/log/PS/spot.html” and adding “http://www.acq.osd.mil/log/PS/ctr_mgt_accountability.html” in its place.

225.7002-3 [Amended]

11. Amend section 225.7002-3 introductory text by removing “223.7002-2” and adding “225.7002-2” in its place.

PART 237—SERVICE CONTRACTING

237.170-2 [Amended]

12. In section 237.170-2, amend paragraph (b) by removing “Subpart 217.78” and adding “subpart 217.7” in its place.

PART 252—SOLICITATION PROVISIONS AND CONTRACT CLAUSES

252.225-7040 [Amended]

13. Amend section 252.225-7040 by—

a. Removing the clause date “(AUG 2015)” and adding “(OCT 2015)” in its place; and

b. Amending paragraph (g)(2) by removing “SPOT business rules.” and adding “SPOT Business Rules at http://www.acq.osd.mil/log/PS/ctr_mgt_accountability.html.” in its place.

[FR Doc. 2015-27473 Filed 10-29-15; 8:45 am]

BILLING CODE 5001-06-P